DEPARTMENT OF LABOR

Employment and Training Administration

Notice of Availability of Funds and Solicitation for Grant Applications (SGA) for YouthBuild Grants

Announcement Type: Notice of Solicitation for Grant Applications.

Funding Opportunity Number: SGA/DFA PY 06-08.

Catalog of Federal Assistance Number: 17.274.

DATES: Key Dates: The closing date for receipt of applications under this announcement is July 3, 2007. Applications must be successfully submitted through Grants.gov no later than 5 p.m. (Eastern Time). Application and submission information is explained in detail in Part IV of this SGA. There will be a Prospective Applicant Conference held for this grant competition. The date and location for this Prospective Applicant Conference can be found at http://www.dtiassociates.com/youthbuild.

SUMMARY: The U.S. Department of Labor (DOL), Employment and Training Administration (ETA) announces the availability of approximately $47 million in grant funds for YouthBuild Grants.

YouthBuild Grants will be awarded through a competitive process. Grant funds will be used to provide disadvantaged youth with: The education and employment skills necessary to achieve economic self-sufficiency in occupations in high demand and postsecondary education and training opportunities; opportunities for meaningful work and service to their communities; and opportunities to develop employment and leadership skills and a commitment to community development among youth in low-income communities. As part of their programming, YouthBuild grantees will tap the energies and talents of disadvantaged youth to increase the supply of permanent affordable housing for homeless individuals and low-income families and to help youth develop the leadership, learning, and high-demand occupational skills needed to succeed in today's global economy.

ETA hopes to serve approximately 2,900 youth participants during the first year of this initiative, with projects operating in approximately 90-100 communities across the country. Under this announcement, ETA will be awarding grants to organizations to oversee the provision of education and employment services to disadvantaged youth in their communities.

This solicitation provides background information and describes the application submission requirements, outlines the process that eligible entities must use to apply for funds covered by this solicitation, and outlines the evaluation criteria used as a basis for selecting grantee.

ADDRESSES: Applications will only be accepted through the Grants.gov application system. Applications that do not meet the conditions set forth in this notice will not be considered. No exceptions to the submission requirements set forth in this notice will be granted. For detailed guidance, please refer to Section IV.C.

SUPPLEMENTARY INFORMATION: This solicitation consists of eight parts:

• Part I provides background information on YouthBuild, a description of ETA's Youth Vision, YouthBuild program objectives, and additional information on the key components of YouthBuild to consider when preparing an application.

• Part II describes the size and nature of the anticipated awards.

• Part III describes eligibility information.

• Part IV provides information on the application and submission process.

• Part V describes the criteria against which applications will be reviewed and explains the proposal review process.

• Part VI provides award administration information.

• Part VII contains ETA agency contact information.

• Part VIII lists additional resources of interest to applicants and other information.

I. Funding Opportunity Description

YouthBuild is a youth and community development program that simultaneously addresses several core issues facing low-income communities: Housing, education, employment, crime prevention, and leadership development. Part A of this section provides a background of the YouthBuild program. Part B provides information on the principles underlying the Department of Labor, Employment & Training Administration's Youth Vision and how an alternative education program such as YouthBuild has taken on a new significance in preparing skilled and well-trained youth to compete in a demand-driven workforce. Part C describes the core objectives of the YouthBuild program with Part D providing additional information on key components of YouthBuild to consider when preparing a grant application.

A. Background on YouthBuild

The YouthBuild model balances in-school learning, geared toward a high school diploma or GED, and construction skills training, geared toward a career placement for the youth. The in-school component is an alternative education program that assists youth who are often significantly behind in basic skills to obtain a high school diploma or GED credential. The primary target populations for YouthBuild are high school drop-outs, adjudicated youth, youth aging out of foster care, and other at-risk youth populations. The YouthBuild model enables these youth to access the education they need to prosper in the 21st century economy. There are currently over 200 YouthBuild programs operating in the United States, funded through various Federal funding sources.

YouthBuild was started in East Harlem, New York, in 1978 to provide education services for youth and teach construction skills while renovating and building homes for low-income families. It was replicated in five locations in New York City during the 1980s. In 1993, the YouthBuild program was established by Federal statute and the U.S. Department of Housing and Urban Development (HUD) was designated as the agency responsible for administering the program.

In December 2003, the White House Task Force for Disadvantaged Youth recommended the transfer of the YouthBuild program from HUD to DOL because the program is “at its core, an employment and training program for disadvantaged youth, and will benefit from administrative oversight in DOL within the Employment & Training Administration.”

In September 2006, the YouthBuild Transfer Act was signed by President George W. Bush. The bill repeals the YouthBuild program's statutory authority under the Cranston-Gonzalez National Affordable Housing Act (Pub. L. 102-550; 49 U.S.C. 12899 et seq.) and transfers the statutory authority for the program, with needed modifications and improvements, to subtitle D of Title I of the Workforce Investment Act (WIA). The YouthBuild program is being administered as a “national program” by the Employment and Training Administration (ETA).

Since its inception, a primary purpose of the YouthBuild program has been to provide job training and employment opportunities for at-risk youth. By transferring the program to DOL, ETA will leverage its significant expertise and resources in the area of workforce investment under WIA. The transfer from HUD to DOL is intended to help strengthen YouthBuild grantees' connections to One-Stop Career Centers and the Department's registered apprenticeship programs; leverage investments such as the President's High Growth Job Training Initiative; improve access to the post-secondary and community college system; and broker connections to the workforce system's business partners.

B. ETA's Youth Vision

ETA has set an overarching priority for the entire workforce investment system by providing adults and youth with the necessary educational, occupational and other skills training and services needed by business and industry in the 21st century economy. Education initiatives, particularly alternative education programs such as YouthBuild, have taken on new importance within the workforce system. Efforts to create a skilled, well-trained, and demand-driven workforce are important for several reasons:

• A severe crisis faces our nation's workforce: Too many youth are leaving high school without their diplomas, unprepared for post-secondary training and employment. The Educational Testing Service's “One-Third of a Nation: Rising Dropout Rates and Declining Opportunities” reports that one-third of all youth who begin ninth grade will not receive a high school diploma. Eleven percent of 16-24 year olds nationally, or 3.8 million youth, are out of school and have neither a diploma nor a GED. This problem is particularly pronounced in urban areas: in almost half of the schools in the largest 35 central cities, the number of twelfth graders was half or less than the number of students enrolled in ninth grade three years earlier. These youth represent an untapped labor pool and a valuable resource for employers. Our economy needs these youth to be part of the economy if we are to compete globally.

• The connection between earning and learning: Income and education are more closely linked than in any time in our history. Eighty percent of the fastest growing jobs require education and training beyond high school. College students earn on average 70% more than high school students. High school dropouts are four times more likely than college graduates to be unemployed. Low-income Americans have far higher rates of dropping out of high school and far lower rates of enrolling in college and obtaining a postsecondary credential than their middle or higher income peers. The earning power of high school drop-outs has been in almost continuous decline over the past three decades; in 2002, the earnings of male dropouts declined 32%. Female dropouts experienced a 14% decline.

• State and regional economies are being negatively impacted by low graduation rates: According to calculations done by the Alliance for Excellent Education, improving state high school graduation rates could produce significant wage increases, resulting in healthier state economies.

• A new workforce “supply pipeline”: ETA's Youth Vision recognizes out-of-school youth and those most at risk of dropping out as an important part of the new workforce “supply pipeline” that businesses need to fill job vacancies in the service-producing knowledge economy. However, without re-connecting these youth to high quality educational opportunities, they will not be adequately prepared to participate in today's economy. ETA's Youth Vision focuses investment of WIA resources on connecting youth with high quality education and employment services. (http://www.doleta.gov/ryf/WhiteHouseReport/VMO.cfm). Alternative education is an important way for disconnected youth to re-enter the workforce supply chain and compete for high quality jobs in a demand-driven system. YouthBuild will serve as a “flagship” program to demonstrate ETA's commitment to high quality, innovative alternative educational learning opportunities that prepare youth for post-secondary education and employment.

C. YouthBuild Program Objectives

Funds made available through the YouthBuild grants will be used to carry out a YouthBuild program with the following core objectives:

• To enable disadvantaged youth to obtain the education and employment skills necessary to achieve economic self-sufficiency in occupations in demand and post-secondary education and training opportunities;

• To provide disadvantaged youth with opportunities for meaningful work and service to their communities;

• To foster the development of employment and leadership skills and commitment to community development among youth in low-income communities; and

• To expand the supply of permanent affordable housing for homeless individuals and low-income families by utilizing the energies and talents of disadvantaged youth.

D. Key Components and Additional Information About the YouthBuild Grant Application Process

What Type of Information Should be Addressed in the Design of the Program?

Part II of the application contains the Technical Proposal which should address specific grant requirements identified in Section A of Part V of this SGA. Applicants applying for these grants are asked to describe their community, the youth to be served, the need for this Federal support, and their plan for providing education, skills training, and leadership development services to youth. They must describe how their efforts contribute to the overall economic development of their community. They must also demonstrate that they have established partnerships with—or made a good faith effort to establish partnerships with—the K-12 public education system, local community colleges, the juvenile justice system, registered apprenticeship programs, Local Workforce Investment Boards, and/or the local housing authority. Applicants are expected to identify their plan to leverage other Federal, State, or local funding, as well as private funding sources, to provide other “wrap around” supportive services as well as to support the costs associated with their defined construction project. Applicants are asked to describe their previous experience operating YouthBuild or similar youth programs with educational components. Applicants are asked to describe how occupational safety is addressed at their worksite. They are asked to describe their organization's ability to manage this grant.

What Size Grants Are Available?

Applicants can apply for three-year grants (two years of program operations with a twelve-month follow-up period) that will range from $700,000 to $1.1 million. These grants will be incrementally funded, with half of the grant funds awarded this year, fiscal year (FY) 2007, for the first twelve months of operations. Pending satisfactory performance and availability of funds, the remaining funds would be awarded next year (FY 2008) for second year operations. These awards will support two years of core program operations (education, occupational skills training, and youth leadership development activities) plus an additional twelve months of follow-up support services and tracking of participant outcomes for each cohort of youth. Roughly 5% of total funds should be reserved for the twelve-month follow-up period.

What Roles Might Partners Play in Partnerships?

Each collaborative partner must have a clearly defined role. These roles must be verified through a letter of commitment (not just a letter of support) submitted by each partner. The letter of commitment must detail the role the partner will play in the project, including specific responsibilities and resources committed, if appropriate. These letters must clearly indicate the partnering organization's unique contribution and commitment to the project.

Disadvantaged youth possess a wide range of challenges that must be addressed by multiple strategies, organizations and agencies. Partnerships and partnership roles will vary depending on the applicant's strategy and participant needs. However, ETA expects that the applicant will make a good-faith effort to attract the following partners and that each collaborative partner will, at a minimum, contribute in the following ways:

Education and training providers (K-12, adult education, community and technical colleges, four-year colleges and universities, and other training entities) are important foundational partners to ensure the project's activities are tied to the broader continuum of education providers in the community. These entities assist in developing and implementing industry-driven workforce education strategies in partnerships with employers including competency models, curricula, and new learning methodologies, such as technology-based learning. Whenever possible, the YouthBuild program should strive to be connected in a meaningful way with the K-12 system for the purpose of (1) ensuring a wider variety of educational opportunities within the community as a whole and (2) as a drop-out prevention strategy. YouthBuild programs should also be connected to post-secondary training opportunities, particularly community colleges, whenever possible to ensure the smooth transition of YouthBuild participants into post-secondary training opportunities available through community colleges, including the use of articulation agreements and staff development for YouthBuild staff.

Employers (including professional organizations and associations) should be actively engaged in the project and should participate fully in grant activities including: defining the program strategy and goals; identifying needed skills and competencies; designing training approaches and curricula; contributing financial support; and, where appropriate, hiring qualified YouthBuild graduates.

The workforce investment system (which may include State and Local Workforce Investment Boards, State Workforce Agencies, and One-Stop Career Centers and their cooperating partners, as such terms are defined under the Workforce Investment Act) may play a number of roles, including: identifying and assessing potential candidates for YouthBuild; working collaboratively to leverage WIA investments through co-enrollment with the Youth Formula program; referring qualified candidates to the YouthBuild program for enrollment; providing access to “wrap around” supportive services, when appropriate; providing local labor market information to YouthBuild staff and participants; and connecting qualified YouthBuild graduates to employers that have existing job openings.

The juvenile justice system is an important partner in referring potential participants to the YouthBuild program, providing support and guidance for YouthBuild participants with court involvement, and assisting in the reporting of recidivism rates among YouthBuild participants. Some YouthBuild participants may be placed in the program as a form of alternative sentencing or for re-entry services. In these instances, police, parole and probation, detention and juvenile correction facilities, judges, and social workers will be critically important partners for creating a safety net to prevent recidivism and ensure attachment to the community.

Faith-based and community organizations can be valuable partners in the YouthBuild program. These organizations may provide a variety of grant services, such as case management, mentoring, and English as a Second Language (ESL) courses, and other comprehensive supportive services, when appropriate, for YouthBuild participants.

In situations where these partnerships are not supported with letters of commitment, the applicants should, at a minimum, demonstrate that the potential partner was contacted and provided a sufficient opportunity for response. It is suggested that applicants use registered mail to demonstrate such efforts.

What If Two or More Organizations Submit Separate Applications To Serve the Same Urban or Rural Community?

If more than one proposal to serve the same urban or rural community is rated highly, ETA will consider whether the urban or rural community is large enough to support more than one project.

Can a National or Regional Organization Apply To Serve Multiple Urban or Rural Communities?

Yes, but a separate application must be submitted for each metropolitan area that the organization proposes to serve. The organization must demonstrate that it has an existing presence in each urban or rural community for which it is applying. Single proposals applying to serve multiple urban and rural areas will not be considered. If submitting multiple applications to serve various localities, applicants are encouraged to evaluate each community on its own merits and ensure that each proposal supports the unique characteristics of the community and the participants that it will be serving. A single application may cross community boundaries.

What Is the Definition of “Low-Income” Family for the Purposes of Program Eligibility?

The definition of “low-income family” is taken directly from the United States Housing Act of 1937 (42 U.S.C. 1437a(b)(2)) which states:

”The term `low-income families' means those families whose incomes do not exceed 80 per centum of the median income for the area, as determined by the Secretary with adjustments for smaller and larger families, except that the Secretary may establish income ceilings higher or lower than 80 per centum of the median for the area on the basis of the Secretary's findings that such variations are necessary because of prevailing levels of construction costs or unusually high or low family incomes.”

The median for the area can be found at HUD's Web site: http://www.huduser.org/datasets/il.html

What Are Allowable Uses of Grant Funds?

Allowable uses of grant funds may include:

(1) Education and Workforce Activities, such as:

• Basic skills instruction and remedial education;

• Language instruction educational programs for individuals with limited English proficiency;

• Secondary education services and activities, including tutoring, study skills training, and dropout prevention activities, designed to lead to the attainment of a secondary school diploma, General Education Development (GED) credential, or other State-recognized equivalent (including recognized alternative standards for individuals with disabilities);

• Counseling and assistance in obtaining post-secondary education and required financial aid;

• Alternative secondary school services;

• Work experience and skills training (coordinated, to the maximum extent feasible, with pre-apprenticeship and registered apprenticeship programs) in housing rehabilitation and construction activities;

• Occupational skills training; and

• Other paid and unpaid work experiences, including internships and job shadowing.

(2) Counseling services and related activities, such as comprehensive guidance and counseling on drug and alcohol abuse and referral.

(3) Youth development activities, such as:

• Community service and peer-centered activities encouraging responsibility and other positive social behaviors, and

• Activities related to youth policy committees that allow YouthBuild participants to engage in local policy and decision-making related to the program.

(4) Supportive services and provision of need-based stipends necessary to enable individuals to participate in the program.

(5) Supportive services to assist individuals, for a period not to exceed 12 months after the completion of training, in obtaining or retaining employment, or applying for and transitioning to post-secondary education.

(6) Supervision and training for participants in the rehabilitation or construction of housing, including residential housing for homeless individuals or low-income families, or transitional housing for homeless individuals.

(7) Supervision and training for participants in the rehabilitation or construction of community and other public facilities.

(8) Payment of a portion of the administrative costs of the grantee.

(9) Mentoring of participants by qualified adults.

(10) Provision of wages, stipends, or benefits to participants in the program.

(11) Ongoing training and technical assistance for staff that are related to developing and carrying out the program.

(12) Follow-up services.

(13) Equipment and/or supplies related to the YouthBuild activities funded through this grant.

What Are the Limitations for Use of ETA Funds for Paid Work Experiences, Needs-Based Stipends, Wages, and Other Supportive Services?

If the applicant plans to use grant funds for paid work experiences, needs-based stipends, wages, and other supportive services for the participants, sufficient information must be provided in the budget narrative to clearly justify the proposed amounts to be provided.

Can Funds Be Used for Rehabilitation or Construction of Buildings Other Than Low-Income Housing?

Yes. In training participants, up to 10 percent of grant funds may be used in the rehabilitation or construction of community and other public facilities. The remaining 90 percent of funds must be used to train participants in the rehabilitation or construction of low-income housing.

How Will Success Be Measured Under These Grants?

The three outcome measures are:

• Literacy and numeracy gains.

• High School diploma/GED/certification attainment rate.

• Placement in employment/post-secondary education/occupational skills training/military.

In addition, grantees may report on a number of interim indicators that will serve as predictors of success. Interim indicators include:

• Placement retention rate.

• Enrollment rate.

• Participation in education/training activities.

• Workforce preparation.

• Recidivism.

• Mentoring.

• Community service/leadership activities.

In applying for these grants, organizations agree to submit updated Management Information System (MIS) data on enrollee characteristics, services provided, placements, outcomes, and follow-up status.

II. Award Information

A. Award Amount

ETA intends to fund approximately 90-100 grants ranging from $700,000 to $1.1 million through this competition; however, this does not preclude ETA from funding grants at either a lower or higher amount, or funding a smaller or larger number of projects, based on the type and the number of quality submissions. Applicants are encouraged to submit budgets within this range for quality projects at whatever funding level is appropriate to their project.

B. Period of Performance

Grants will be awarded for a three-year period of performance. This includes two years of core program operations (education, occupational skills training, and youth leadership development activities) for two or more cohorts of youth plus an additional twelve months of follow-up support services and tracking of participant outcomes for each cohort of youth.

III. Eligibility Information and Other Grant Specifications

A. Eligible Applicants

An organization is an eligible applicant for these grants if it is a public or private nonprofit agency or organization (including a consortium of such agencies or organizations with a designated lead applicant), including:

• Community-based organizations;

• Faith-based organizations;

• An entity carrying out activities under this WIA, such as a local workforce investment board or One-Stop Career Center;

• A community action agency;

• A state or local housing development agency;

• An Indian tribe or other agency primarily serving Indians;

• A community development corporation;

• A state or local youth service conservation corps; or

• Any other relevant public or private non-profit entity that provides education or employment training and can meet the required elements of the grant.

B. Eligible Enrollees

An individual may participate in a YouthBuild program only if such individual is:

• Between the ages of 16 and 24 on the date of enrollment; and

• A member of a disadvantaged youth population such as a member of a low-income family, a youth in foster care (including youth aging out of foster care), a youth offender, a youth who is an individual with a disability, a child of an incarcerated parent, or a migrant youth; and

• A school dropout.

Up to (but not more than) 25 percent of the participants in the program may be youth who do not meet the education or disadvantaged criteria above but are:

• Basic skills deficient, despite attainment of a secondary school diploma, General Education Development (GED) credential, or other state-recognized equivalent (including recognized alternative standards for individuals with disabilities); or

• Have been referred by a local secondary school for participation in a YouthBuild program leading to the attainment of a secondary school diploma.

C. Matching Funds and Leveraged Resources

Aligning resources and leveraging funding are key components of success under the Youthbuild grant program. Therefore, applicants must provide cash or in-kind resources equivalent to at least 25 percent of the grant award amount as matching funds. Please note that neither prior investments nor Federal resources may be counted as match.

To be allowable as part of match, a cost must be an allowable charge for Federal grant funds. Determinations of allowable costs will be made in accordance with the applicable Federal cost principles as indicated in Part IV(E). If the cost would not be allowable as a grant-funded charge, then it also cannot be counted toward matching funds. Matching funds must be expended during the grant period of performance.

Please note that applicants are expected to fulfill the match amount specified on their SF-424 application and SF-424a budget form. Upon completion of the grant, if the match amount specified by the applicant is not met or if a portion of the matching funds are found to be an unallowable cost, the amount of DOL grant funds may be decreased on a dollar for dollar basis. This may result in the repayment of funds to DOL.

Applicants are encouraged to leverage additional funds outside of the match to supplement the project as a whole. Matching funds and leveraged resources could come from a variety of sources including: public sector (e.g., state or local governments); non-profit sector (e.g., community organizations, faith-based organizations, or education and training institutions); private sector (e.g., businesses or industry associations); investor community (e.g., angel networks or economic development entities); and the philanthropic community (e.g., foundations).

Applicants should clearly make the distinction of what will be considered matching funds versus “additional” leveraged funds. Only the matching funds shall be shown on the SF-424 and SF-424a. The amount of funds specified on these forms will be considered by DOL as the applicant's match. All other leverage resources should be explained in the budget narrative separate from the explanation of match. Applications will be evaluated on how the match and leveraged funds are fully integrated in support of program outcomes.

IV. Application and Submission Information

A. Address to Request Application Package

This SGA contains all of the information and links to forms needed to apply for grant funding.

B. Content and Form of Application Submission

The proposal will consist of three separate and distinct parts—a cost proposal (I), a technical proposal (II), and a description of and information on the work site (III). Applications that fail to adhere to the instructions in this section will be considered non-responsive and will not be considered.

Part I. The Cost Proposal. The Cost Proposal must include the following three items:

• The Standard Form (SF) 424, “Application for Federal Assistance” (available at http://www.doleta.gov/sga/forms.cfm). The SF 424 must clearly identify the applicant and be signed by an individual with authority to enter into a grant agreement. Upon confirmation of an award, the individual signing the SF 424 on behalf of the applicant shall be considered the authorized representative of the applicant.

• All applicants for Federal grant and funding opportunities are required to have a Dun and Bradstreet (DUNS) number. See Office of Management and Budget (OMB) Notice of Final Policy Issuance, 68 FR 38402 (June 27, 2003). Applicants must supply their DUNS number on the SF 424. The DUNS number is a nine-digit identification number that uniquely identifies business entities. Obtaining a DUNS number is easy and there is no charge. To obtain a DUNS number, access this Web site: http://www.dunandbradstreet.com or call 1-866-705-5711.

• The SF 424A Budget Information Form (available at http://www.doleta.gov/sga/forms.cfm). In preparing the Budget Information Form, the applicant must provide a concise narrative explanation to support the request. The budget narrative should break down the budget, match and leveraged resources by project activity, should discuss cost-per-participant, and should discuss precisely how the administrative costs support the project goals. If the applicant plans to use grant funds for paid work experiences, needs-based stipends, wages, and other supportive services for the participants, sufficient information must be provided in the budget narrative to clearly justify the proposed amounts to be provided.

Please note that applicants that fail to provide a SF 424, SF 424A and/or a budget narrative will be removed from consideration prior to the technical review process. Only an applicant's match amount (not other leveraged resources) should be listed on the SF 424 (Block 18) and SF 424A Budget Information Form (Section A & C). The amount of Federal funding requested for the entire period of performance (i.e. 3 years) should be shown together on the SF 424 and SF 424A Budget Information Form. Applicants are also encouraged, but not required, to submit OMB Survey N. 1890-0014: Survey on Ensuring Equal Opportunity for Applicants, which can be found at http://www.doleta.gov/sga/forms.cfm.

Part II. The Technical Proposal. The Technical Proposal will demonstrate the applicant's capability to implement the YouthBuild grant project in accordance with the provisions of this solicitation. The guidelines for the content of the Technical Proposal are provided in Part V Section A of this SGA. The Technical Proposal is limited to twenty (20) double-spaced single-sided pages with 12 point text font and one-inch margins. Any materials beyond the 20-page limit will not be read. Also, applicants should number the Technical Proposal beginning with page number 1.

In addition to the 20-page Technical Proposal, the applicant must provide an organization chart that reflects how the YouthBuild program will be staffed. In instances where the YouthBuild program is part of a larger organization (e.g., a Housing Authority), please include a diagram that indicates where the YouthBuild program fits within the larger organization. Also, the applicant must provide a timeline outlining project activities; letters of commitment from partners; and a two-page Abstract summarizing the proposed project including applicant name, project title, and the funding level requested. The Abstract should note whether the application is being submitted as an urban, rural, or Native American application. These additional materials do not count against the 20-page limit for the Technical Proposal, but may not exceed fifteen (15) pages. Any materials beyond the 15-page limit will not be read.

Part III. The Work Site Description. The application must include all of the following information relating to the planned work site for this project. This information should be presented on official letterhead of the presenting organization in the order outlined below, identifying supplemental documents as applicable:

(1) Official document(s) from the Applicant (on applicant organization's letterhead). This/these document(s) must:

• Identify the location of the site(s) or property(ies) (e.g., addresses, parcel numbers, etc.) that will be used for on-site construction.

• Include information identifying, and a description of, the financing proposed for the (a) rehabilitation of the property involved; (b) acquisition of the property; (c) construction of the property; and (d) supplies. Also, fully describe how financing for the building of the site will be supported.

• Include information identifying, and a description of, the entity that will operate and manage the property.

• Include a certification that the applicant will comply with the requirements of the Fair Housing Act (42 U.S.C. 3601 et seq.) and will affirmatively further fair housing.

• Include information on how the program will provide for inclusion of tenants who were previously homeless individuals in the rental housing provided through this grant.

(2) Official document from the property owner or property management company or companies allowing access to the housing site(s) for on-site construction training. DOL will deem non-responsive any application that fails to specifically identify the location of the on-site construction, including evidence of site access. Guidance on evidence of site access is as follows:

• If the applicant has a contract or option to purchase the property, include a copy of the contract or option; or

• If a third party owns the property or has a contract or option to purchase, that third party must provide a letter stating the nature of the ownership and specifically providing access to the property for the purposes of the program and the time frame in which the property will be available. In the case of a contract or option, include a copy of the document.

(3) Official certification by a public official responsible for the housing strategy for the State or unit of general local government within which the proposed program is located (on official agency letterhead) that the proposed program is consistent with the housing strategy.

C. Submission Date, Times, and Addresses

The closing date for receipt of applications under this announcement is July 3, 2007. Applications must be successfully submitted through www.grants.gov no later than 5 p.m. (Eastern Time). Applications sent by mail, e-mail, telegram, or facsimile (fax) will not be accepted. Applications that do not meet the conditions set forth in this notice will not be honored. No exceptions to the requirements set forth in this notice will be granted.

Paper applications will not be accepted. All applications must be submitted electronically at http://www.grants.gov. Any application received after the deadline will not be accepted. It is strongly recommended that before the applicant begins to write the proposal, applicants immediately initiate and complete the ”Get Started” steps to register at http://www.grants.gov/GetStarted. These steps may take several days to complete and should be factored into the plans for electronic application submission in order to avoid facing unexpected delays that could result in the rejection of the application. To ensure that the application is submitted on time, it is recommended that it is submitted multiple days before the due date in order to address any technical difficulties that may be encountered. It is the sole responsibility of the applicant to ensure timely submission. Applications should be submitted as a .doc or .pdf file.

D. Intergovernmental Review

This funding opportunity is not subject to Executive Order (EO) 12372, “Intergovernmental Review of Federal Programs.”

E. Funding Restrictions

All proposal costs must be necessary and reasonable in accordance with Federal guidelines. Determinations of allowable costs will be made in accordance with the applicable Federal cost principles, e.g., Non-Profit Organizations—OMB Circular A-122. Disallowed costs are those charges to a grant that the grantor agency or its representative determines not to be allowed in accordance with the applicable Federal Cost Principles or other conditions contained in the grant. Applicants will not be entitled to reimbursement of pre-award costs.

Legal Rules Pertaining to Inherently Religious Activities by Organizations that Receive Federal Financial Assistance. The government is generally prohibited from providing direct financial assistance for inherently religious activities. See 29 CFR Part 2, Subpart D. Provision relating to the use of indirect support (such as through vouchers) are at 29 CFR 2.33(c) and 20 CFR 667.266. These grants may not be used to directly support religious instruction, worship, prayer, proselytizing or other inherently religious practices. Neutral, secular criteria that neither favor nor disfavor religion must be employed in the selection of grant and sub-grant recipients. In addition, under the Workforce Investment Act of 1998 and ETA regulations implementing the Workforce Investment Act, a recipient may not use direct Federal assistance to train a participant in religious activities, or employ participants to construct, operate, or maintain any part of a facility that is used or to be used for religious instruction or worship. See 29 CFR 37.6(f). Under WIA, “no individual shall be excluded from participation in, denied the benefits of, subjected to discrimination under, or denied employment in the administration of or in connection with, any such program or activity because of race, color, religion, sex (except as otherwise permitted under Title IX of the Education Amendments of 1972), national origin, age, disability, or political affiliation or belief.”

Indirect Costs. As specified in OMB Circular Cost Principles, indirect costs are those that have been incurred for common or joint objectives and cannot be readily identified with a particular cost objective. In order to utilize grant funds for indirect costs incurred, the applicant must obtain an Indirect Cost Rate Agreement with its Federal Cognizant Agency either before or shortly after the grant award. If an applicant already has a Federal Indirect Cost Rate Agreement, that agreement may be used.

Administrative Costs. Under the YouthBuild grants, an entity that receives a grant to carry out a project or program may not use more than 15 percent of the amount of the grant to pay administrative costs associated with the program or project. Administrative costs could be both direct and indirect costs and are defined at 20 CFR 667.220. Administrative costs do not need to be identified separately from program costs on the SF 424A Budget Information Form. They should be discussed in the budget narrative and tracked through the grantee's accounting system. To claim any administrative costs that are also indirect costs, the applicant must obtain an indirect cost rate agreement from its Federal Cognizant Agency as specified above.

ETA Intellectual Property Rights. Applicants should note that grantees must agree to provide DOL/ETA a fully paid, nonexclusive and irrevocable license to reproduce, publish, or otherwise use for federal purposes all products developed or for which ownership was purchased under an award, including but not limited to curricula, training models, technical assistance products, and any related materials, and to authorize them to do so. Such uses include, but are not limited to, the right to modify and distribute such products worldwide by any means, electronically or otherwise.

F. Withdrawal of Applications

Applications may be withdrawn by written notice or telegram (including mailgram) received at any time before an award is made. Applications may be withdrawn in person by the applicant or by an authorized representative thereof, if the representative's identity is made known and the representative signs a receipt for the proposal.

V. Application Review Information

A. Evaluation Criteria

This section identifies and describes the criteria that will be used to evaluate proposals for a YouthBuild Grant. These criteria and point values are:

Criterion | Points
1. Statement of Need | 10
2. Program Management and Organizational Capacity | 10
3. Project Design, Service Strategy, and Program Outcomes | 40
4. Linkages to Key Partners and Leveraged Resources | 25
5. Evidence of Past Success in YouthBuild or Other Relevant Programs | 15
Total Possible Points | 100

1. Statement of Need (10 Points)

Please describe the community where the YouthBuild program will operate. Identify the need for a YouthBuild program in the community that is proposed to be served through the grant and demonstrate the need for the project in that area. Applicants are expected to present information on various characteristics of the community(ies) in which they expect to operate. If there are particular neighborhoods within the city where the grant will be focused, describe these neighborhoods and provide available data specific to those areas. Required information includes the population of the area, its poverty rate, the incidence of homelessness, shortage of affordable housing, its unemployment rate, the drop-out rate, and the number of 18-24 year olds without a high school diploma. To obtain these indicators, applicants can use census tract data from the 2000 census—go to http://factfinder.census.gov and use the link on the left for People.

To find the cohort rate for dropouts in the area being served, provide the 9th grade enrollment at each high school within the proposed community for 2001 and the graduating class for those same high schools in May/June 2005. All of these indicators should be presented in chart form and the applicant must provide the sources for the data provided.

If the organization plans to build or rehabilitate houses or community/public facilities in a different community from that in which youth will be recruited, present the homelessness and poverty data for that area and the unemployment, poverty, and dropout data for the area in which the organization will be recruiting youth participants.

Applicants will be evaluated on the clear and specific need for a YouthBuild program in their community.

2. Program Management and Organizational Capacity (10 Points)

Please provide a description of the applicant organization and a statement of its qualifications for running a YouthBuild program including years of operation, current annual budget, experience of staff and continuity of leadership and their relevant experience. Please fully describe the organization's capacity to track and report outcomes. Please discuss the professional development activities available to staff, either on-site or through training funds.

Please fully describe any previous experience of the organization in operating grants from either Federal or non-Federal sources. Describe the fiscal controls in place in the organization for auditing and accountability procedures.

Please describe the organization's ability to handle multiple funding streams. As some grantees may be simultaneously managing grants from both HUD and DOL in the next few years, it is especially important that organizations be able to demonstrate that they have accounting systems in place that are able to manage multiple funding streams in an organized and delineated manner.

Applicants must describe their proposed project management structure including, where appropriate, the identification of a proposed project manager, discussion of the proposed staffing pattern, and the qualifications and experience of key staff members.

Scoring under this criterion will be based on the extent to which applicants provide evidence of the following:

• The time commitment of the proposed staff is sufficient to ensure proper direction, management, and timely completion of the project.

• The roles and contribution of staff, consultants, and collaborative organizations are clearly defined and linked to specific objects and tasks.

• The background, experience, and other qualifications of the staff are sufficient to carry out their designated roles.

• The applicant organization has significant capacity to accomplish the goals and outcomes of the project, including the ability to collect and manage data in a way that allows consistent, accurate, and expedient reporting.

3. Project Design, Service Strategy, and Program Outcomes (40 Points Total)

a. How will youth be recruited and selected for the program? (5 points)

Please provide a description that fully demonstrates how eligible youth will be recruited and selected as participants, including a description of arrangements that will be made with Local Workforce Investment Boards, One-Stop Career Centers, faith-based and community organizations, state educational agencies or local educational agencies (including agencies of Indian tribes), public assistance agencies, the courts of jurisdiction, agencies operating shelters for homeless individuals and other agencies that serve youth who are homeless individuals, foster care agencies, and other appropriate public and private agencies. Please provide a description that fully demonstrates the special outreach efforts that will be undertaken to recruit eligible young women (including young women with dependent children) as participants.

Applicants will be evaluated on the quality and comprehensiveness of their recruitment strategy including methods for outreach, referral, and selection. In addition, applicants will be evaluated on the program's unique efforts to recruit eligible young women into the YouthBuild program.

b. How will education and occupational skills training be delivered to youth? (15 points)

Please provide a description that fully demonstrates the educational and job training activities (particularly construction/building trades occupational training), work opportunities, post-secondary education and training opportunities, and other services that will be provided to participants, and how those activities, opportunities, and services will prepare youth for employment in occupations in demand in the local labor market. Given the connection between education and earnings, it is ETA's expectation that the academic component will be rigorous and challenging and will provide youth with opportunities to transition to post-secondary training. The program should be structured so that participants in the program are offered education and related services designed to meet educational needs for at least 50 percent of the time during which they participate in the program. YouthBuild program participants must be offered work and skill development activities for at least 40 percent of the time during which they participate in the program. The proposal will be rated on the quality of the education program, the quality of the occupational skills training, and the integration of these two components.

(1) Education

Please indicate the type of academic credential that participants earn while in the program (GED or high school diploma). Please fully describe the quality of the academic program and the qualifications of the teaching staff. Fully describe any innovative and successful strategies that the program or initiative has used to address low basic skills of participants. If distance learning and/or credit retrieval is used, please fully describe how this is incorporated into the overall academic program. Please fully describe the relationship between the program and the local school district(s).

Please fully demonstrate how the academic program is integrated with the occupational skills training component of the program. Please explain how academic and occupational skills training instructors work together to reinforce and complement classroom and workplace lessons. Please describe other innovative teaching strategies used in the program.

Please explain how the program explicitly links participants to local community colleges and trade schools, particularly for YouthBuild programs that only offer GEDs to participants.

Please describe the types of college exploration, planning, preparation, and assistance that will be provided. Describe the types of follow-up services that will be provided to support youth as they transition to post-secondary education and ensure that they graduate.

(2) Occupational Skills Training

Please discuss the occupational skills training component of the program including where and how the training will be conducted, how the curriculum is developed, the type of industry recognized credentials that result from the training, and the involvement of industry partners in the development of the training. Describe how the applied learning of the construction trades will improve and enhance the academic outcomes for the youth. Please describe the skills and qualifications of the occupational skills training instructors.

Please provide a description of the wages or stipends structure for participants. Provide labor market information for the community, state, and/or region where the YouthBuild program will be implemented, including both current data (as of the date of submission of the application) and projections on career opportunities in growing industries. Please explain how the YouthBuild program will prepare youth for the local labor market in demand driven occupations that include construction-related and other high-growth career fields.

Please describe how the organization will oversee the worksite to identify existing and potential hazards, how youth will be trained to protect themselves from potential worksite accidents, and how hazards will be prevented and controlled through policies and procedures. Provide information on how worksite supervisors will be trained to ensure worksite safety. Please indicate the ration of adults to youth at construction training sites.

Please note that YouthBuild projects will be required to follow Occupational Safety and Health Administration (OSHA) guidelines in the operation of their construction projects and to submit incident reports to ETA of injuries occurring on worksites. ETA will require that YouthBuild grantees:

• Provide comprehensive documented training on construction safety for youth working on YouthBuild projects, including requirements for youth to demonstrate knowledge and proficiency in hazard identification, abatement, and safe work practices.

• Demonstrate compliance with federal and state child labor laws and occupational safety and health regulations.

• Provide written jobsite-specific safety plans overseen by an on-site supervisor with the knowledge, skills, and authority to correct safety and health hazards and enforce the site-specific safety plan.

• Provide necessary personal protective equipment to youth working on YouthBuild projects.

• Report all injuries and illnesses to youth working on YouthBuild projects, along with documentation on remedial measures to prevent future similar injuries and help ensure that YouthBuild is a model program that takes active steps for participant safety and health.

c. How will community service learning and leadership development opportunities be provided for youth in the program? (10 points)

Please fully describe the proposed leadership curriculum, qualifications of instructors, and the impact of the proposed leadership activities on the target area. The application must fully describe the leadership development training that will be offered to participants, the expected leadership competencies with which participants will graduate, youth committee involvement strategies, efforts for providing the training to build group cohesion and peer support, and opportunities for continued leadership after graduation. Please describe how community service learning opportunities will be implemented at the site.

Applicants will be evaluated on the quality of leadership development and community service learning activities. In addition, the proposal will be evaluated on how these activities are integrated with academic, skills training, and career exploration components of the program.

d. What types of post-program transition services will be provided? What types of follow-up services will be provided? Post-program transition services are defined as services offered during program enrollment that will assist a young person in making a successful transition from the YouthBuild program into employment and/or post-secondary education and training programs. Follow-up services are services provided to a YouthBuild program participant upon exit from the program. (10 points)

Please fully describe the types of post-program transition services that will be offered to prepare youth for career pathway opportunities and placements and/or educational opportunities and placements. Please fully describe how each individual's work readiness will be assessed and how work readiness training will be provided. Also describe how an individual's readiness for placement in post-secondary education and/or apprenticeship programs will be assessed. Please fully demonstrate the types of career exploration and planning activities that will be offered by the program, particularly for high-growth, high-demand, and high-wage occupations. For a list of the U.S. Department of Labor's Employment and Training Administration's Targeted High-Growth Industries, go to: http://www.doleta.gov/BRG/eta_default.cfm.

Please fully describe the program's job placement and retention strategy including how the program will work with employers and/or One-Stop Career Centers to identify and create job openings for the young people served by the program.

Please fully describe the types of follow-up that will be provided to program graduates. These supportive services should relate to employment placement and retention, post-secondary transition and degree attainment. Describe how appropriate continued support services will be provided.

Important elements for evaluation include:

• The degree to which work readiness and career exploration are integrated into the core mission and activities of the program.

• The program's consistent ability to provide post-program planning for participants.

• The structure of its participant follow-up service strategy.

4. Linkages to Key Partners, Match and Leveraged Resources and Regional Economic Development Strategies (25 points total)

a. Who are the key partners that will be supporting the program? (10 points)

Please describe the key partners who will be involved in the proposed YouthBuild project. Specifically, describe in detail the activities to be undertaken by partners, the level of commitment from each partnering organization, and their qualifications to assist with this project. As an attachment, the applicant should include letters of commitment from key partners that demonstrate the strength and maturity of the partnership including previous collaboration on projects.

Please provide a description of how the proposed program will coordinate with Federal, state, and local agencies and Indian tribes to access services, including local workforce investment activities, vocational education programs, limited English proficiency instruction programs, and activities conducted by public schools, community colleges, and national service programs, as well as other job training provided with funds available under this title.

Please describe the partnerships with the juvenile justice system or housing and community development systems.

Please fully describe the specific role of employers in the proposed program, such as their role in developing the proposed program and assisting in service provision and in placement activities.

Please fully describe the program's relationship with local building trade unions and their role in training, the relationship of the proposed program to established registered apprenticeship programs and employers, and the ability of the applicant to grant industry-recognized skills certifications through the program.

Points for this factor will be awarded based on: (a) The comprehensiveness of the partnership and the degree to which each key partner plays a committed role in the proposed project; (b) their knowledge and experience concerning the proposed grant activities, and their ability to impact the success of the project; and (c) evidence, including letters of commitment, that key partners have expressed a clear dedication to the project and understand their areas of responsibility. Applicants should provide evidence of a plan for interaction and communication between partners and the demonstrated ability of the lead agency to successfully manage partnerships.

b. What match and other leveraged resources are being contributed to this project? (10 points)

Applicants should clearly describe the required matching funds and any additional funds or resources leveraged in support of the proposed strategies and demonstrate how these funds will be used to contribute to the goals of the project. Important elements of the explanation include:

• Which partners and/or grant subrecipients have contributed match and leveraged resources and the extent of each contribution, including an itemized description of each contribution.

• The quality of the match and leveraged resources, including the extent to which each contribution will be used to further the goals of the project.

• Evidence, such as letters of commitment, that key partners have expressed a clear commitment to provide the contribution.

Assessment of this criterion will be based on the extent to which the application fully describes the amount, commitment, nature, and quality of match and leveraged resources. A match in the sum of at least 25 percent of the Federal funding request must be provided. Matching funds may be either cash or in-kind. Both matching funds and additional leveraged resources will be scored based on the degree to which the source and use of those resources are clearly explained and the extent to which all resources are fully integrated into the project to support grant outcomes.

d. Please Describe the Organization's Involvement in Regional Economic Development Strategies. (5 Points)

Please fully describe how the organization is serving as a catalyst for change in the community. Applicants should be able to fully demonstrate how they have created such changes and stimulated economic growth in their communities and how they would continue to support community development as a YouthBuild grantee.

Please specifically describe how the program is integrated with local, state, and/or regional strategies to develop deep talent pools of young workers who will serve as a “youth supply pipeline” to drive and support economic growth.

Applicants will be evaluated on the following:

• The extent to which they understand the local and regional economy and the role of youth workers in shaping the economy; and

• The proposed role of YouthBuild training in stimulating economic growth in high-demand occupations.

5. Evidence of Past & Projected Success In Youthbuild or Other Relevant Programs (15 Points)

Please fully describe and document the past accomplishments operating YouthBuild or similar youth programs with academic components in the community. Please explain how long the program has been in operation and provide annual performance data on the following factors:

• Number of youth recruited.

• Number of youth enrolled.

• Number of youth completing the program.

• Number and percent of youth receiving their GED or high school diploma (please differentiate between the two).

• Rate of literacy and numeracy gains by participants.

• Number and percent of youth who have entered construction-related employment.

• Number and percent of youth who have entered other employment.

• Employment retention rates.

• Number and percent of youth who have entered post-secondary training or education.

• Post-secondary training or education retention rates; where available, please indicate the number of participants who have completed post-secondary training or education and have achieved a credential.

• Number and percent of youth who have entered registered apprenticeship programs.

• Annual cost per participant.

Please indicate the expected performance outcomes if awarded a grant (in terms of literacy and numeracy gains; high school diploma/GED attainment; placement in employment, post-secondary education, occupational skills training, or the military; and employment retention rate).

Please indicate the types of private foundation funding the organization has secured in the past. Also, fully describe long-term partnerships with organizations that have added to the robustness of the program and how the organization has sustained these partnerships.

Please fully describe how both the academic and skills training curriculum were developed and how long they have been used. Important elements to be considered with this factor are:

• The degree to which the performance data is provided and documented.

• The variety and types of funding streams and long-term partnerships that the program has been able to attract to support YouthBuild activities.

• The complexity of construction activities undertaken and the degree to which youth are exposed and trained in a variety of construction skills.

B. Review and Selection Process

Proposals that are timely and responsive to the requirements of this SGA will be rated against the criteria listed above by an independent panel comprised of representatives from DOL, HUD, U.S. Department of Justice (DOJ), and U.S. Department of Health & Human Services (HHS) and other peers. The ranked scores will serve as the primary basis for selection of applications for funding, in conjunction with other factors such as urban, rural, and geographic balance; whether the areas to be served have previously received grants for YouthBuild programs; the availability of funds; and which proposals are most advantageous to the Government. The panel results are advisory in nature and not binding on the Grant Officer, and the Grant Officer may consider any information that comes to his/her attention. The Government may elect to award the grant(s) with or without discussions with the applicants. Should a grant be awarded without discussions, the award will be based on the applicant's signature on the SF 424, which constitutes a binding offer by the applicant (including electronic signature via E-Authentication on http://www.grants.gov).

VI. Award Administration Information

A. Award Notices

All award notifications will be posted on the ETA homepage (http://www.doleta.gov). Applicants selected for award will be contacted directly before the grant's execution. Applicants not selected for award will be notified by mail.

B. Administrative and National Policy Requirements

1. Administrative Program Requirements

All grantees, including faith-based organizations, will be subject to all applicable Federal laws (including provisions of appropriation laws), regulations, and the applicable Office of Management and Budget (OMB) Circulars. The grant(s) awarded under this SGA must comply with all provisions of this solicitation and will be subject to the following administrative standards and provisions, as applicable to the particular grantee:

1. 20 Code of Federal Regulations (CFR) Part 667.220. (Administrative Costs).

2. Non-Profit Organizations—Office of Management and Budget (OMB) Circulars A-122 (Cost Principles) and 29 CFR Part 95 (Administrative Requirements).

3. Educational Institutions—OMB Circulars A-21 (Cost Principles) and 29 CFR Part 95 (Administrative Requirements).

4. All entities must comply with 29 CFR Parts 93 and 98 and, where applicable, 29 CFR Parts 96 and 99.

5. In accordance with Section 18 of the Lobbying Disclosure Act of 1995, Public Law 104-65 (2 U.S.C. 1611) non-profit entities incorporated under Internal Revenue Service Code section 501(c)(4) that engage in lobbying activities are not eligible to receive Federal funds and grants.

6. 29 CFR part 2, subpart D—Equal Treatment in Department of Labor Programs for Religious Organizations; Protection of Religious Liberty of Department of Labor Social Service Providers and Beneficiaries;

7. 29 CFR part 30—Equal Employment Opportunity in Apprenticeship and Training;

8. 29 CFR part 31—Nondiscrimination in Federally Assisted Programs of the Department of Labor—Effectuation of Title VI of the Civil Rights Act of 1964;

9. 29 CFR part 32—Nondiscrimination on the Basis of Handicap in Programs and Activities Receiving or Benefiting from Federal Financial Assistance;

10. 29 CFR part 33—Enforcement of Nondiscrimination on the Basis of Handicap in Programs or Activities Conducted by the Department of Labor;

11. 29 CFR part 35—Nondiscrimination on the Basis of Age in Program or Activities Receiving Federal Financial Assistance from the Department of Labor;

12. 29 CFR part 36—Nondiscrimination on the Basis of Sex in Education Programs or Activities Receiving Federal Financial Assistance;

13. 29 CFR part 37—Implementation of the Nondiscrimination and Equal Opportunity Provisions of the Workforce Investment Act of 1998 (WIA).

14. 29 CFR part 1926, Safety and Health Regulations for Construction of the Occupational Safety and Health Act (OSHA).

15. 29 CFR part 570, Child Labor Regulations, Orders and Statements of Interpretation of the Employment Standards Child Labor Provisions.

Further, as a Federal agency, DOL has a statutory duty to affirmatively further fair housing. ETA requires the same of its funding recipients under this solicitation. If the organization is a successful applicant, the organization will have a duty to affirmatively further fair housing opportunities for classes protected under the Fair Housing Act. Protected classes include race, color, national origin, religion, sex, disability, and familial status. Therefore, the application should include specific steps to:

1. Overcome the effects of impediments to fair housing choice that were identified in the jurisdiction's Analysis of Impediments (AI) to Fair Housing Choice;

2. Remedy discrimination in housing; or

3. Promote fair housing rights and fair housing choice.

Further, the applicant has a duty to carry out the specific activities provided in its responses to this solicitation that address affirmatively furthering fair housing.

Note: Except as specifically provided in this Notice, DOL/ETA's acceptance of a proposal and an award of Federal funds to sponsor any program(s) does not provide a waiver of any grant requirements and/or procedures. For example, OMB Circulars require that an entity's procurement procedures must ensure that all procurement transactions are conducted, as much as practical, to provide open and free competition. If a proposal identifies a specific entity to provide services, the DOL/ETA's award does not provide the justification or basis to sole source the procurement, i.e., avoid competition, unless the activity is regarded as the primary work of an official partner to the application.

C. Special Program Requirements

Evaluation. ETA may require that the program or project participate in an evaluation of overall performance of YouthBuild grants. To measure the impact of the YouthBuild programs, ETA may arrange for or conduct an independent evaluation of the outcomes and benefits of the projects. Grantees must agree to make records on participants, employers and funding available, and to provide access to program operating personnel and participants, as specified by the evaluator(s) under the direction of ETA, including after the expiration date of the grant.

D. Reporting

Quarterly financial reports, quarterly progress reports, and MIS data will be submitted by the grantee electronically. The grantee is required to provide the reports and documents listed below:

Quarterly Financial Reports. A Quarterly Financial Status Report (SF 269) is required until such time as all funds have been expended or the grant period has expired. Quarterly reports are due 30 days after the end of each calendar year quarter. Grantees must use ETA's On-Line Electronic Reporting System and information and instructions will be provided to grantees.

Quarterly Progress Reports. The grantee must submit a quarterly progress report to their designated Federal Project Officer within 30 days after the end of each quarter. This report should provide a detailed account of activities undertaken during that quarter. Grantees must agree to meet ETA reporting requirements. The quarterly progress report should be in narrative form and should include:

1. In-depth information on accomplishments, including project success stories, upcoming grant activities, and promising approaches and processes.

2. Progress toward performance outcomes, including updates on product, curricula, and training development.

Injury Incident Reports. Organizations will be required to submit incident reports of injuries received by enrollees on the job. ETA will provide specifications for this reporting after grant award.

MIS Reports. Organizations will be required to submit updated MIS data on enrollment, services provided, placements, outcomes, and follow-up status. A government-procured MIS system will be provided at no charge to all grantees. Grantees will be required to have industry-standard computer hardware and high-speed Internet access in order to use the MIS system. Grant funds may be used with the prior approval of the Grant Officer to upgrade computer hardware and Internet access to enable projects to use the MIS system.

Final Report. A draft final report must be submitted no later than 60 days prior to the expiration date of the grant. This report must summarize project activities, employment outcomes, and related results of the training project, and should thoroughly document capacity building and training approaches. The final report should also include copies of all deliverables, e.g. curricula and competency models. After responding to ETA questions and comments on the draft report, three copies of the final report must be submitted no later than the grant expiration date. Grantees must agree to use a designated format specified by ETA for preparing the final report.

VII. Agency Contacts

For further information regarding this SGA, please contact Donna Kelly, Grants Management Specialist, Division of Federal Assistance, at (202) 693-3934 (please note this is not a toll-free number). Applicants should fax all technical questions to (202) 693-2705 and must specifically address the fax to the attention of Donna Kelly and should include SGA/DFA PY 06-08, a contact name, fax and phone number, and email address. This announcement is being made available on the ETA Web site at http://www.doleta.gov/sga/sga.cfm, at http://www.grants.gov, and in the Federal Register.

VIII. Additional Resources of Interest to Applicants and Other Information Resources for the Applicant

ETA maintains a number of web-based resources that may be of assistance to applicants:

• The Web site for the Employment and Training Administration (http://www.doleta.gov) is a valuable source for background information on the President's High Growth Job Training Initiative.

• The Workforce³ One Web site (http://www.workforce3one.org) is a valuable resource for information about demand driven projects of the workforce investment system, educators, employers, and economic development representatives.

• America's Service Locator (www.servicelocator.org) provides a directory of the nation's One-Stop Career Centers.

• Career Voyages (www.careervoyages.com), a Web site targeted at youth, parents, counselors, and career changers, provides information about career opportunities in high-growth/high-demand industries.

• Applicants are encouraged to review “Help with Solicitation for Grant Applications” (http://www.dol.gov/cfbci/sgabrochure.htm).

• For a basic understanding of the grants process and basic responsibilities of receiving Federal grant support, please see “Guidance for Faith-Based and Community Organizations on Partnering with the Federal Government” (http://www.whitehouse.gov/government/fbci/guidance/index.html).

Other Information

OMB Information Collection No.: 1205-0458.

Expires: September 30, 2009.

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, the OMB Desk Officer for ETA, Office of Management and Budget, Room 10235, Washington, DC 20503. Please do not return the completed application to the OMB. Send it to the sponsoring agency as specified in this solicitation.

This information is being collected for the purpose of awarding a grant. The information collected through this “Solicitation for Grant Applications” will be used by the Department of Labor to ensure that grants are awarded to the applicant best suited to perform the functions of the grant. Submission of this information is required in order for the applicant to be considered for award of this grant. Unless otherwise specifically noted in this announcement, information submitted in the respondent's application is not considered to be confidential.

Signed at Washington, DC, this 19th day of April, 2007.
Eric D. Luetkenhaus,
Employment and Training Administration, Grant Officer.

[FR Doc. E7-7974 Filed 4-25-07; 8:45 am]

BILLING CODE 4510-FT-P